ENVIRONMENTAL PROTECTION AGENCY

[OPP-2002-0013; FRL-6833-8]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by October 23, 2002, unless indicated otherwise, orders will be issued canceling all of these registrations.

FOR FURTHER INFORMATION CONTACT: By mail: James A. Hollins, Information Resources Services Division (7502C), Office of Pesticide Programs, Environmental Protection Agency, 1200 Pennsylvania Ave., NW., Washington, DC 20460; telephone number: (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information, Including Copies of this Document and Other Related Documents?

Electronically. You may obtain electronic copies of this document, and certain other related documents that might be available electronically, from the EPA Internet Home Page at http://www.epa.gov/. To access this document, on the Home Page select “Laws and Regulations,”“ Regulations and Proposed Rules,” and then look up the entry for this document under the “Federal Register—Environmental Documents.” You can also go directly to the Federal Register listings at http://www.epa.gov/fedrgstr/.

II. What Action is the Agency Taking?

This notice announces receipt by the Agency of applications from registrants to cancel 56 pesticide products registered under section 3 or 24(c) of FIFRA. These registrations are listed in sequence by registration number (or company number and 24(c) number) in Table 1 of this unit:

Table 1.—Registrations With Pending Requests for Cancellation
Registration no. | Product Name | Chemical Name
000004-00302 | Bonide Flea Beater | Bendiocarb (2,2-dimethyl-1,3-benzoldioxol-4-yl methylcarbamate)
000070-00260 | Rigo Fire Ant Killer | Bendiocarb (2,2-dimethyl-1,3-benzoldioxol-4-yl methylcarbamate)
000070-00270 | Rigo Insect Killer Dust | Bendiocarb (2,2-dimethyl-1,3-benzoldioxol-4-yl methylcarbamate)
000100 ID-96-0010 | Supracide 25WP Insecticide-Miticide | O,O-Dimethyl phosphorodithioate, S-ester with 4-(mercaptomethyl)-2-
000241 AZ-92-0007 | Prowl 3.3 EC Herbicide | N-(1-Ethylpropyl)-3,4-dimethyl-2,6-dinitrobenzenamine
000264 ID-93-0014 | Rovral Fungicide | 3-(3,5-Dichlorophenyl)-N-(1-methylethyl)-2,4-dioxo-1-imidazolidinecarboxamide
000270-00320 | Bendiocarb 2.5 Insecticide Granules | Bendiocarb (2,2-dimethyl-1,3-benzoldioxol-4-yl methylcarbamate)
000400 AZ-81-0022 | Comite Agricultural Miticide | 2-(p-tert-Butylphenoxy)cyclohexyl 2-propynyl sulfite
000524 OR-99-0047 | Mon-65005 Herbicide | Isopropylamine glyphosate (N-(phosphonomethyl)glycine)
000524 OR-99-0048 | Mon-65005 Herbicide | Isopropylamine glyphosate (N-(phosphonomethyl)glycine)
000524 WA-99-0029 | Mon-65005 Herbicide | Isopropylamine glyphosate (N- (phosphonomethyl)glycine)
000524 WA-99-0031 | Mon-65005 Herbicide | Isopropylamine glyphosate (N-(phosphonomethyl)glycine)
000707 AZ-79-0036 | Kerb 50-W Selective Herbicide | Propyzamide
000769-00739 | Trac Bug Duster | Bendiocarb (2,2-dimethyl-1,3-benzoldioxol-4-yl methylcarbamate)
000769-00740 | Smcp Insect Dust | Bendiocarb (2,2-dimethyl-1,3-benzoldioxol-4-yl methylcarbamate)
000769-00899 | Pratt Ant and Termite Killer | Bendiocarb (2,2-dimethyl-1,3-benzoldioxol-4-yl methylcarbamate)
000802-00570 | Lilly/Miller Casoran Granules | 2,6-Dichlorobenzonitrile
000802-00581 | Lilly/Miller Funginil Lawn and Garden Fungicide | Tetrachloroisophthalonitrile
000909-00095 | Cooke Daconil Lawn and Garden Fungicide | Tetrachloroisophthalonitrile
001677-00170 | Monarch Super Kabon | Alkyl* dimethyl benzyl ammonium chloride *(50%C14, 40%C12, 10%C16)
003125-00402 | Sencor Solupak 75% Dry Flowable Herbicide | 1,2,4-Triazin-5(4H)-one, 4-amino-6-(1,1-dimethylethyl)-3-(methylthio)-
004581 AZ-87-0018 | Des-I-Cate | 7-Oxabicyclo(2.2.1)heptane-2,3-dicarboxylic acid, compd. with N, N-
005887-00153 | Black Leaf Wasp & Hornet Killer | (Butylcarbityl)(6-propylpiperonyl) ether 80% and related compounds 20%
|  | Bendiocarb (2,2-dimethyl-1,3-benzoldioxol-4-yl methylcarbamate)
005905 AZ-93-0011 | 5lB Dimethoate Systemic Insecticide | O,O-Dimethyl S-((methylcarbamoyl)methyl) phosphorodithioate
007401-00067 | Ferti-Lome Rose Spray containing Diazinon & Daconil | O,O-Diethyl O-(2-isopropyl-6-methyl-4-pyrimidinyl) phosphorothioate
|  | Tetrachloroisophthalonitrile
007401-00113 | Ferti-Lome Citrus & Ornamental Spray | O,O,O',O'-Tetraethyl S,S'-methylene bis(phosphorodithioate)
|  | Aliphatic petroleum hydrocarbons
007401-00325 | Ferti-Lome Roach Powder | Bendiocarb (2,2-dimethyl-1,3-benzoldioxol-4-yl methylcarbamate)
007401-00346 | Ferti-Lome Ant + Roach Powder | Bendiocarb (2,2-dimethyl-1,3-benzoldioxol-4-yl methylcarbamate)
009779 AZ-96-0001 | Dimate 4E | O,O-Dimethyl S-((methylcarbamoyl)methyl) phosphorodithioate
009779 WA-87-0022 | Dimethoate 4E | O,O-Dimethyl S-((methylcarbamoyl)methyl) phosphorodithioate
009779 WA-92-0005 | Phorate 20-G | O,O-Diethyl S-((ethylthio)methyl) phosphorodithioate
009779 WA-97-0019 | Dimate 4E | O,O-Dimethyl S-((methylcarbamoyl)methyl) phosphorodithioate
009779 WA-97-0031 | Dimate 4E | O,O-Dimethyl S-((methylcarbamoyl)methyl) phosphorodithioate
010163 AZ-80-0010 | Gowan Dimethoate E267 | O,O-Dimethyl S-((methylcarbamoyl)methyl) phosphorodithioate
010163 AZ-99-0002 | Supracide 25WP | O,O-Dimethyl phosphorodithioate, S-ester with 4-(mercaptomethyl)-2-
010163 ID-95-0001 | Metasystox-R Spray Concentrate | S-(2-(Ethylsulfinyl)ethyl) O,O-dimethyl phosphorothioate
010163 ID-95-0002 | Metasystox-R Spray Concentrate | S-(2-(Ethylsulfinyl)ethyl) O,O-dimethyl phosphorothioate
010163 ID-97-0005 | Savey Ovicide/Miticide 50-WP | trans-5-(4-Chlorophenyl)-N-cyclohexyl-4-methyl-2-oxo-3-thiazolidinecarboxamide
010163 OR-99-0053 | Supracide 25W | O,O-Dimethyl phosphorodithioate, S-ester with 4-(mercaptomethyl)-2-
010182 AZ-01-0004 | Cyclone Concentrate/Gramoxone Max | 1,1'-Dimethyl-4,4'-bipyridinium dichloride
010182 AZ-91-0008 | Stauffer Eptam 7-E Granules | S-Ethyl dipropylthiocarbamate
|  | S-Ethyl dipropylthiocarbamate
010182 AZ-95-0002 | Eptam (R) 20. G Granules | S-Ethyl dipropylthiocarbamate
010182 AZ-98-0006 | Gramoxone Extra Herbicide | 1,1'-Dimethyl-4,4'-bipyridinium dichloride
010707 NV-93-0006 | Magnacide H Herbicide | 2-Propenal
012455 OR-85-0038 | Ditrac Rat and Mouse Bait | 2-(Diphenylacetyl)-1,3-indandione
028293-00266 | Dursban Plus Resmethrin Concentrate | O,O-Diethyl O-(3,5,6-trichloro-2-pyridyl) phosphorothioate
|  | (5-Benzyl-3-furyl)methyl 2,2-dimethyl-3-(2-methylpropenyl)cyclopropanecarboxylate
034704 AZ-81-0001 | Dimethogon 267 EC | O,O-Dimethyl S-((methylcarbamoyl)methyl) phosphorodithioate
034704 AZ-88-0007 | Clean Crop Dimethoate 400 | O,O-Dimethyl S-((methylcarbamoyl)methyl) phosphorodithioate
051036 AZ-89-0011 | Dimethoate 4E Systemic Insecticide | O,O-Dimethyl S-((methylcarbamoyl)methyl) phosphorodithioate
058185-00018 | Dycarb 76 WP Insecticide for Horticulture Plants | Bendiocarb (2,2-dimethyl-1,3-benzoldioxol-4-yl methylcarbamate)
062719-00384 | Karathane WD Fungicide/miticide | 2,4-Dinitro-6-octyl* phenyl crotonate, 2,6-dinitro-4-octyl* phenyl crotonate and
062719-00385 | Karathane Liquid Concentrate | 2,4-Dinitro-6-octyl* phenyl crotonate, 2,6-dinitro-4-octyl* phenyl crotonate and
062719-00390 | Karathane Technical | 2,4-Dinitro-6-octyl* phenyl crotonate, 2,6-dinitro-4-octyl* phenyl crotonate and
067959-00001 | Trifluralin Technical | Trifluralin (a,a,a-trifluro-2,6-dinitro-N,N-dipropyl-p-toluidine)
071949-00013 | Ford's Ant, Roach and Insect Powder | Bendiocarb (2,2-dimethyl-1,3-benzoldioxol-4-yl methylcarbamate)

Unless a request is withdrawn by the registrant within 180 days (unless indicated otherwise) of publication of this notice, orders will be issued canceling all of these registrations. Users of these pesticides or anyone else desiring the retention of a registration should contact the applicable registrant directly during the indicated comment period.

Table 2 of this unit includes the names and addresses of record for all registrants of the products in Table 1 of this unit, in sequence by EPA company number:

Table 2.—Registrants Requesting Voluntary Cancellation
EPA Company no. | Company Name and Address
000004 | Bonide Products, Inc., 6301 Sutliff Rd., Oriskany, NY 13424.
000070 | Value Gardens Supply, LLC, Box 585, St. Joseph, MO 64502.
000100 | Syngenta Crop Protection, Inc., Box 18300, Greensboro, NC 27419.
000241 | BASF Corp., Box 13528, Research Triangle Park, NC 27709.
000264 | Aventis Cropscience USA LP, 2 T.W. Alexander Drive Box 12014, Research Triangle Park, NC 27709.
000270 | Farnam Companies Inc., Box 34820, Phoenix, AZ 85067.
000400 | Uniroyal Chemical Co Inc., A Subsidiary of Crompton Corp., 74 Amity Rd, Bethany, CT 06524.
000524 | Monsanto Co, 600 13th Street, NW Suite 660, Washington, DC 20005.
000707 | Rohm & Haas Co, Attn: James V. Hagan, 100 Independence Mall W., Philadelphia, PA 19106.
000769 | Value Gardens Supply, LLC, Box 585, St. Joseph, MO 64502.
000802 | Lilly Miller Brands, Agent For: Central Garden & Pet, 16201 SE 98th, Clackamas, OR 97015.
000909 | Lilly Miller Brands, Agent For: Central Garden & Pet, 16201 SE 98th, Clackamas, OR 97015.
001677 | Ecolab Inc., 370 Wabasha St. Ecolab Center, St Paul, MN 55102.
003125 | Bayer Corp., Agriculture Division, 8400 Hawthorn Rd Box 4913, Kansas City, MO 64120.
004581 | Cerexagri, Inc., 630 Freedom Business Center, Suite 402, King Of Prussia, PA 19046.
005887 | Value Gardens Supply, LLC, Box 585, St. Joseph, MO 64502.
005905 | Helena Chemical Co, 225 Schilling Blvd., Suite 300, Collierville, TN 38017.
007401 | Brazos Associates, Inc., Agent For: Voluntary Purchasing Group In, 2001 Diamond Ridge Drive, Carrollton, TX 75010.
009779 | Agriliance, LLC, Box 64089, St Paul, MN 55164.
010163 | Gowan Co, Box 5569, Yuma, AZ 85366.
010182 | Zeneca Ag Products, Inc., 1800 Concord Pike, Wilmington, DE 19850.
010707 | Baker Petrolite Corp., 12645 W. Airport Blvd., Sugarland, TX 77487.
012455 | Bell Laboratories Inc., 3699 Kinsman Blvd, Madison, WI 53704.
028293 | Unicorn Laboratories, 12385 Automobile Blvd., Clearwater, FL 33762.
034704 | Jane Cogswell, Agent For: Platte Chemical Co Inc., Box 667, Greeley, CO 80632.
051036 | Micro-Flo Co. LLC, Box 772099, Memphis, TN 38117.
058185 | Scotts-Sierra Crop Protection Co., Attn: Vincent Snyder, Jr., 14111 Scottslawn Rd, Marysville, OH 43041.
062719 | Dow Agrosciences LLC, 9330 Zionsville Rd 308/2E225, Indianapolis, IN 46268.
067959 | Tri Corp., 10260 Westheimer Rd - Ste 230, Houston, TX 77042.
071949 | OMS Investments, Inc., c/o Delaware Corporate Management, 1105 N. Market Street, Wilmington, DE 19899.
* There is a 30-day comment period on registrations for EPA company numbers 007401 and 071949.

III. Loss of Active Ingredients

Unless the request for cancellations are withdrawn, one pesticide active ingredient will no longer appear in any registered products. Those who are concerned about the potential loss of this active ingredient for pesticidal use are encouraged to work directly with the registrant to explore the possibility of their withdrawing the request for cancellation. The active ingredient is listed in the following Table 3, with the EPA company and CAS number.

Table 3.—Active Ingredient Disappearing as a Result of Registrant's Request to Cancel
CAS No. | Chemical Name | EPA Company No.
39300-45-3 | Dinocap | 062719

IV. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

V. Procedures for Withdrawal of Request

Registrants who choose to withdraw a request for cancellation must submit such withdrawal in writing to the person listed under FOR FURTHER INFORMATION CONTACT, postmarked before October 23, 2002, unless indicated otherwise. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

VI. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: April 15, 2002.
Linda Vlier Moos,
Acting Director, Information Resources Services Division, Office of Pesticide Programs.

[FR Doc. 02-10340 Filed 4-25-02; 8:45 am]

BILLING CODE 6560-50-S